DEPARTMENT OF ENERGY

Federal Energy Regulatory Commission

[Project No. 12611-014]

Verdant Power, LLC; Notice of Application Accepted for Filing and Soliciting Motions To Intervene and Protests

Take notice that the following hydroelectric application has been filed with the Commission and is available for public inspection.

a. Type of Application: Subsequent Minor License.

b. Project No.: 12611-014.

c. Date filed: December 30, 2019.

d. Applicant: Verdant Power, LLC.

e. Name of Project: Roosevelt Island Tidal Energy Project.

f. Location: On the East River in New York County, New York. The project does not occupy federal land.

g. Filed Pursuant to: Federal Power Act 16 U.S.C. 791(a)-825(r).

h. Applicant Contact: Mr. Ronald F. Smith, President and Chief Operating Officer, Verdant Power, LLC, P.O. Box 282, Roosevelt Island, New York, New York 10044. Phone: (703) 328-6842. Email: rsmith@verdantpower.com.

i. FERC Contact: Andy Bernick at (202) 502-8660 or andrew.bernick@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis.

l. The existing pilot project license authorizes the following project facilities: (a) Thirty 35-kilowatt, 5-meter-diameter axial flow turbine-generator units; (b) ten triframe mounts, each supporting three turbine-generator units; (c) 480-volt underwater cables from each triframe mount to five shoreline switchgear vaults that interconnect to a control room and interconnection points; and (d) appurtenant facilities for navigation safety and operation.

Under the current pilot project license, which expires on December 31, 2021, Verdant installed, tested, and then removed a total of five turbine-generator units. Verdant also proposes to install three turbine-generator units attached to one triframe mount in late 2020 (i.e., Install B-1), under the existing pilot project license.

The proposed project would be constructed in three phases: Install B-1 (under the existing pilot license, as noted above), Install B-2 (three triframe mounts with a total of nine turbine-generator units), and Install C (one triframe mount with three turbine-generator units). The project would consist of a maximum of fifteen 35-kilowatt, 5-meter-diameter axial flow turbine-generator units with a total installed capacity of 0.525 megawatt. Each of the five triframe mounts would be connected via underwater cables to an existing control room and a proposed shoreline switchgear vault, and via an overhead transmission line (for the first two triframe mounts) and an underground transmission line (for the remaining three triframe mounts) to a point of interconnection.

The project would operate using the natural tidal currents of the East River, during both ebb and flood tidal periods. As the direction of tidal flow changes, each turbine-generator unit would rotate (or yaw) to align the rotor to the direction of flow, through a passive system caused by hydrodynamic forces on the turbine-generator unit. The annual generation is expected to be from 840 to 1,200 megawatt-hours.

m. In addition to publishing the full text of this document in the Federal Register, the Commission provides all interested individuals an opportunity to view and/or print the contents of this document via the internet through the Commission's Home Page (www.ferc.gov) using the eLibrary link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

When the application is ready for environmental analysis, the Commission will issue a public notice requesting comments, recommendations, terms and conditions, or prescriptions.

All filings must (1) bear in all capital letters the title PROTEST or MOTION TO INTERVENE, (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Milestone | Target date
Issue Scoping Document 1 for comments | August 2020.
Issue Scoping Document 2 (if necessary) | October 2020.
Issue notice of ready for environmental analysis | October 2020.
Issue Single EA | April 2021.
Comments on EA | May 2021.

Dated: June 17, 2020.
Kimberly D. Bose,
Secretary.

[FR Doc. 2020-13558 Filed 6-23-20; 8:45 am]

BILLING CODE 6717-01-P